DEPARTMENT OF TRANSPORTATION

Federal Motor Carrier Safety Administration

Availability of Motor Carrier Safety Assistance Program Grant Funds

AGENCY: Federal Motor Carrier Safety Administration (FMCSA), DOT.

ACTION: Notice.

SUMMARY: This document announces the availability of Motor Carrier Safety Assistance Program (MCSAP) grant funding as authorized by the Safe, Accountable, Flexible, Efficient Transportation Equity Act: A Legacy for Users (SAFETEA-LU). MCSAP is a Federal grant program that provides financial assistance to States to reduce the number and severity of crashes and hazardous materials incidents involving commercial motor vehicles (CMV). The goal of MCSAP is to reduce CMV-involved crashes, fatalities, and injuries through consistent, uniform, and effective CMV safety programs.

DATES: Applications for Basic/Incentive grant funding should be sent to the FMCSA Division Office in the State where the applicant is located no later than August 1 of each year. Applications for FY2006 High Priority grant funds or New Entrant Safety Audit funds must be submitted to the FMCSA Division Office in the State where the applicant is located no later than April 28, 2006.

FOR FURTHER INFORMATION CONTACT: Mr. Michael J. Lamm, Federal Motor Carrier Safety Administration, Office of Safety Programs, State Programs Division (MC-ESS), (202) 366-6830, 400 Seventh Street, SW., Washington, DC 20590. Office hours are from 7 a.m. to 4:30 p.m., ET, Monday through Friday except Federal holidays.

SUPPLEMENTARY INFORMATION:

Background

Section 4101 of SAFETEA-LU (Pub. L. 109-59, August 10, 2005, 119 Stat. 1144) amends 49 U.S.C. 31104(a) and reauthorizes the FMCSA Motor Carrier Safety Grants funding for FY2006 through FY2009. The authorized level of funding for MCSAP is $188,000,000 for FY2006, which includes up to $15,000,000 for High Priority grants and up to $29,000,000 for New Entrant Safety Audits grants. Funding is subject to reductions resulting from obligation limitations or rescissions as specified in SAFETEA-LU or other legislation.

MCSAP Basic and Incentive Funds

All 50 States, the District of Columbia, the Commonwealth of Puerto Rico, the Commonwealth of the Northern Mariana Islands, American Samoa, Guam, and the U.S. Virgin Islands are eligible to receive MCSAP Basic funding grants directly from FMCSA. Basic funds are distributed by formula as outlined in 49 CFR 350.323. Incentive funds may be distributed to all 50 States, the District of Columbia, and the Commonwealth of Puerto Rico based upon the safety and program performance factors found in 49 CFR 350.327. The Commonwealth of the Northern Mariana Islands, American Samoa, Guam, and the U.S. Virgin Islands are ineligible for Incentive funding grants. The Federal share of Basic and Incentive funds is established at 80 percent for all 50 States, the District of Columbia, and the Commonwealth of Puerto Rico. The Federal share of Basic funds is established at 100 percent for the Commonwealth of the Northern Mariana Islands, American Samoa, Guam, and the U.S. Virgin Islands. Funds remain available for expenditure in the State for the fiscal year in which they are allocated and for the next full fiscal year.

High Priority Grants

MCSAP High Priority funds are generally provided by FMCSA to support, enrich, or evaluate State CMV safety programs and to accomplish the following five objectives:

• Implement, promote, and maintain national programs to improve CMV safety;

• Increase compliance with CMV safety regulations;

• Increase public awareness concerning CMV safety;

• Provide education on CMV safety and related issues; and

• Demonstrate new safety-related technologies.

These funds will be allocated, at the discretion of FMCSA, to State agencies, local governments, and organizations representing government agencies or officials that use and train qualified officers and employees in coordination with State motor vehicle safety agencies. Section 4107 of SAFETEA-LU requires at least 90 percent of available funding be awarded to State or local government agencies. The Federal share of these funds is established at 80 percent except that the Federal share is established at 100 percent for public education activities.

New Entrant Grants

States and local governments are eligible to apply for and receive New Entrant funds to conduct New Entrant Safety Audits as required by 49 CFR part 385, subpart D. The safety audit consists of a review of both the new entrant's safety management systems as well as a sample of required records to assess its compliance with the Federal Motor Carrier Safety Regulations, applicable Hazardous Materials Regulations, and related recordkeeping requirements. These funds will be administered at the discretion of FMCSA. The Federal share of these funds is established at 100 percent.

Additional information on MCSAP and the application process is available from the Catalog of Federal Domestic Assistance (CFDA) website at www.cfda.gov. MCSAP is listed as CFDA number 20.218-National Motor Carrier Safety.

Application and Selection Process

Basic/Incentive Grants

The State lead agency, designated by the Governor, must submit an application (MCSAP-1) to the Division Administrator of the FMCSA Division Office in the State where the applicant is located no later than August 1 of each year. In addition to the application, the application package must include a Commercial Vehicle Safety Plan (CVSP) that covers all items listed in 49 CFR 350.213.

Upon receipt, the application will be reviewed by FMCSA. Funds will be allocated based upon FMCSA's approval of the application. For a State to receive funding, the CVSP must be complete and include all required documents. Applicants approved for funding will be required to enter into a grant agreement with FMCSA, which will be executed by a Division Administrator on behalf of the Agency.

High Priority Grants

High Priority funding is available to State agencies, local governments, and organizations representing government agencies or officials that use and train qualified officers and employees in coordination with State motor vehicle safety agencies. This funding will be administered at the discretion of FMCSA. The Federal share for these funds is established at 80 percent except for public education activities which are established at 100 percent Federal share.

States may use High Priority funds to comply with the requirements of section 4106 of SAFETEA-LU, which requires States to conduct comprehensive and highly visible traffic enforcement and commercial vehicle safety inspection programs in high risk locations and corridors. These projects may be similar in scope to the Ticketing Aggressive Cars and Trucks (TACT) pilot program that is currently underway in the State of Washington. TACT uses three principles—communications, enforcement, and evaluation—in an effort to decrease the unsafe driving practices of commercial and noncommercial drivers and to raise the awareness of the enforcement activity and the campaign message. Since the TACT project has not yet been fully evaluated, a State seeking to initiate a similar activity will need to develop its own high visibility traffic enforcement program and submit the program along with its High Priority application and funding proposal to FMCSA.

The applicant may submit an electronic application package through grants.gov. To apply using this method, the applicant must first register with grants.gov by going to http://www.grants.gov/GetStartedRoles?type+aor. Then, the applicant must download, complete, and submit the grant application package by going to http://www.grants.gov/Apply?campaignid+tabnavtracking081105.

As an alternative to the grants.gov process, the applicant may submit a MCSAP-1 paper application to the Division Administrator of the FMCSA Division Office in the State in which the applicant is located.

All applications must be received no later than April 28, 2006. In addition to the application, the application package must include a project proposal containing the following:

• Detailed budget,

• Scope of project,

• Purpose,

• Goals,

• Objectives,

• Implementation strategies,

• Performance measures, and

• Monitoring and evaluation plan.

Upon receipt, the applications will be reviewed by FMCSA and prioritized for potential funding. The review will consider consistency with national priorities, performance with respect to previous year grant programs, FMCSA personnel recommendations, and other criteria that FMCSA deems appropriate. Applicants approved for funding will be required to enter into a grant agreement with FMCSA. A Division Administrator will execute the grant agreement with the applicant on behalf of FMCSA.

If funds remain available after allocations are made for applications submitted by April 28, 2006, additional applications may be submitted and will be considered for funding until all available funds have been allocated.

New Entrant Grants

The applicant must submit an application package electronically through grants.gov or submit a MCSAP-1 paper application no later than April 28, 2006 to the Division Administrator of the FMCSA Division Office in the State in which the applicant is located.

In addition to the application, the application package must include a project proposal containing the following:

• Detailed budget,

• Scope of project,

• Purpose,

• Goals,

• Objectives,

• Implementation strategies,

• Performance measures, and

• Monitoring and evaluation plan.

Upon receipt, the applications will be reviewed by FMCSA and prioritized for potential funding. Applicants approved for funding will be required to enter into a grant agreement with FMCSA. A Division Administrator will execute the grant agreement with the applicant on behalf of FMCSA.

If funds remain available after allocations are made for applications submitted by April 28, 2006, additional applications may be submitted and will be considered for funding until all available funds have been allocated.

A copy of the MCSAP-1 grant application form is available and can be downloaded from http://www.fmcsa.dot.gov/safety-security/safety-initiatives/mcsap/mcsapforms.htm.

It is anticipated the grants.gov application process will be available for use by applicants applying for MCSAP New Entrant and High Priority grants by April 28, 2006.

Addresses of the FMCSA Division Offices are available on the Internet at http://www.fmcsa.dot.gov/about/contact/offices/displayfieldroster.asp.

Issued on: March 20, 2006.
Annette M. Sandberg,
Administrator.

[FR Doc. E6-4325 Filed 3-23-06; 8:45 am]

BILLING CODE 4910-EX-P